NUCLEAR REGULATORY COMMISSION

10 CFR Part 51

[Docket No. PRM-51-30; NRC-2014-0014]

Revise and Integrate All Safety and Environmental Regulations Related to Spent Fuel Storage and Disposal

AGENCY: Nuclear Regulatory Commission.

ACTION: Petition for rulemaking; acceptance and docketing.

SUMMARY: The U.S. Nuclear Regulatory Commission (NRC) has received a petition for rulemaking (PRM) from Diane Curran on behalf of 34 environmental organizations (the petitioner), dated December 20, 2013, as corrected on January 7, 2014. The petitioner requests that the NRC revise and integrate all regulations that relate to the environmental impacts of spent fuel storage and disposal. The NRC is not instituting a public comment period for this PRM at this time.

DATES: The PRM is available on April 21, 2014.

ADDRESSES: Please refer to Docket ID NRC-2014-0014 when contacting the NRC about the availability of information for this petition. You may access publicly-available information related to this petition using any of the following methods:

• Federal Rulemaking Web site: Go to http://www.regulations.gov and search for Docket ID NRC-2014-0014. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland, 20852.

FOR FURTHER INFORMATION CONTACT: Keith McDaniel, Office of Federal and State Materials and Environmental Management Programs, U.S. Nuclear Regulatory Commission, Washington, DC 20555-0001; telephone: 301-415-5252, email: Keith.McDaniel@nrc.gov.

SUPPLEMENTARY INFORMATION:

I. The Petitioner

Diane Curran, Harmon, Curran, Spielberg & Eisenberg, L.L.P., on behalf of 34 Environmental Organizations submitted a PRM dated December 20, 2013, as corrected on January 7, 2014 (ADAMS Accession Nos. ML14029A124, ML14029A169, and ML14029A154). The PRM is part of a larger document entitled “Comments by Environmental Organizations on Draft Waste Confidence Generic Environmental Impact Statement and Proposed Waste Confidence Rule and Petition to Revise and Integrate All Safety and Environmental Regulations Related to Spent Fuel Storage and Disposal” (Petitioners' Document). Primarily, the Petitioners' Document constitutes the collective comments of these 34 environmental organizations on the NRC's draft “Waste Confidence Generic Environmental Impact Statement,” NUREG-2157 (78 FR 56621; September 13, 2013), and associated proposed waste confidence rulemaking (78 FR 56776; September 13, 2013). Section II of the Petitioners' Document, “Description of Organizations,” states that “[a]ll of the organizations are neighbors of existing or proposed nuclear power plants, and most have either intervened or plan to intervene in NRC proceedings for the licensing or re-licensing of nuclear power plants.” ¹

¹ Petitioners' Document at 5.

II. The Petition

The petitioner requests that the NRC revise and integrate all regulations that relate to the environmental impacts of spent fuel storage and disposal. The petitioner asserts that

[i]ssues related to spent fuel storage and disposal impacts are now balkanized into separate rulemakings for spent fuel disposal impacts (Table S-3), safety and impacts of spent fuel storage and disposal from fuel generated during the license renewal period (Table B-1), safety and impacts of spent fuel storage after license termination (proposed 10 C.F.R. [Title 10 of the Code of Federal Regulations] § 51.23), and safety and feasibility of siting a spent fuel repository (proposed 10 C.F.R. § 51.23).²

² Id.

The petitioner further asserts that the “NRC has divided consideration of environmental impacts into piecemeal decision-making” and, “[b]y considering them separately, the NRC ignores the interaction of impacts, cumulative impacts, and inconsistencies in safety and environmental analyses conducted in the separate decision-making processes.” ³ The petitioner requests that the NRC conduct a comprehensive review of these regulations and environmental studies, revise them to be consistent with the current state of knowledge, and integrate them into one cohesive regulatory framework in order to comply with the National Environmental Policy Act (NEPA).

³ Id.

Section IX of the Petitioners' Document, “Petition for Rulemaking,” lists five NRC regulations that must be “revised and integrated,” namely, 10 CFR 51.23, “Temporary storage of spent fuel after cessation of reactor operation—generic determination of no significant environmental impact;” ⁴ 10 CFR 51.51, “Uranium fuel cycle environmental data—Table S-3;” ⁵ 10 CFR 51.53(c), “Postconstruction environmental reports;” ⁶ 10 CFR 51.71(d), “Draft environmental impact statement—contents;” ⁷ and Table B-1 of Appendix B to Subpart A of 10 CFR Part 51, “Environmental Effect of Renewing the Operating License of a Nuclear Power Plant.” ⁸

⁴ Section 51.23 is the primary NRC regulation being considered for amendment in the proposed waste confidence rulemaking (78 FR 56776, 56804; September 13, 2013).

⁵ Table S-3 is entitled “Table of Uranium fuel Cycle Environmental Data.” Although Section IX of the Petitioners' Document refers only to “Table S-3,” Table S-3 is part of 10 CFR 51.51.

⁶ Paragraph 51.53(c) concerns environmental reports filed by nuclear power plant licensees seeking renewal of a plant's operating license.

⁷ Paragraph 51.71(d) concerns the analysis the NRC must engage in when preparing a draft environmental impact statement.

⁸ Table B-1 is entitled, “Summary of Findings on NEPA Issues for License Renewal of Nuclear Power Plants.” Table B-1 codifies the findings of the NRC's “Generic Environmental Impact Statement for License Renewal of Nuclear Power Plants,” NUREG-1437, Revision 1 (June 2013).

The complete text of the Petitioners' Document, as corrected (ADAMS Accession Nos. ML14029A124, ML14029A169, and ML14029A154), is available for review as described in the ADDRESSES section of this document.

Because the petitioner has satisfied the acceptance criteria in in 10 CFR 2.802, “Petition for rulemaking,” the NRC has accepted, and will review the PRM to determine whether it should be considered in the rulemaking process. The NRC staff is currently reviewing the public comments on the draft Waste Confidence Generic Environmental Impact Statement and the proposed waste confidence rulemaking. The NRC staff will consider any insights gained from this review when analyzing the issues raised in PRM-51-30.

The NRC is not requesting public comment on the PRM at this time.

Dated at Rockville, Maryland, this 15th day of April, 2014.
For the Nuclear Regulatory Commission.
Annette L. Vietti-Cook,
Secretary of the Commission.

[FR Doc. 2014-09026 Filed 4-18-14; 8:45 am]

BILLING CODE 7590-01-P